DEPARTMENT OF ENERGY

Federal Energy Regulatory Commission

[Docket No. ER02-1526-000, et al.]

Midwest Independent Transmission System Operator, Inc., et al.; Electric Rate and Corporate Regulation Filings

April 17, 2002.

Take notice that the following filings have been made with the Commission. Any comments should be submitted in accordance with Standard Paragraph E at the end of this notice.

1. Midwest Independent Transmission System Operator, Inc.

[Docket No. ER02-1526-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreements for the transmission service requested by Alcoa Power Generating Inc., d/b/a/ APG Trading.

A copy of this filing was sent to Alcoa Power Generating Inc., d/b/a/ APG Trading.

Comment Date: May 6, 2002.

2. Midwest Independent Transmission System Operator, Inc.

[Docket No. ER02-1527-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreements for the transmission service requested by Calpine Energy Services, L.P.

A copy of this filing was sent to Calpine Services, L.P.

Comment Date: May 6, 2002.

3. Midwest Independent Transmission System Operator, Inc.

[Docket No. ER02-1528-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreement for the transmission service requested by WPS Energy Services, Inc.

A copy of this filing was sent to WPS Energy Services, Inc.

Comment Date: May 6, 2002.

4. Midwest Independent Transmission System Operator, Inc.

[Docket No. ER02-1529-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreements for the transmission service requested by Nordic Marketing LLC.

A copy of this filing was sent to Nordic Marketing LLC.

Comment Date: May 6, 2002.

5. Midwest Independent Transmission System Operator, Inc.

[Docket No. ER02-1530-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreements for the transmission service requested by H.Q. Energy Services (U.S.) Inc.

A copy of this filing was sent to H.Q. Energy Services (U.S.) Inc.

Comment Date: May 6, 2002.

6. Midwest Independent Transmission System Operator, Inc.

[Docket No. ER02-1531-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreements for the transmission service requested by City of Cleveland, Department of Public Utilities, Division of Cleveland Public Power.

A copy of this filing was sent to City of Cleveland, Department of Public Utilities, Division of Cleveland Public Power.

Comment Date: May 6, 2002.

7. Midwest Independent Transmission System Operator, Inc.

[Docket No. ER02-1532-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreements for the transmission service requested by Coral Power, L.L.C.

A copy of this filing was sent to Coral Power, L.L.C.

Comment Date: May 6, 2002.

8. Midwest Independent Transmission System Operator, Inc.

[Docket No. ER02-1533-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreements for the transmission service requested by Ameren Energy, Inc., as agent for and on behalf of Union Electric Co., d/b/a Ameren UE & AmerenEnergy Generating Co.

A copy of this filing was sent to Ameren Energy, Inc., as agent for and on behalf of Union Electric Co., d/b/a Ameren UE & AmerenEnergy Generating Co.

Comment Date: May 6, 2002.

9. Midwest Independent Transmission System Operator, Inc.

[Docket No. ER02-1534-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreements for the transmission service requested by Texas Electric Marketing, LLC.

A copy of this filing was sent to Texas Electric Marketing, LLC.

Comment Date: May 6, 2002.

10. Midwest Independent Transmission System Operator, Inc.

[Docket No. ER02-1535-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreements for the transmission service requested by Maclaren Energy Inc.

A copy of this filing was sent to Maclaren Energy Inc.

Comment Date: May 6, 2002.

11. Midwest Independent Transmission System Operator, Inc.

[Docket No. ER02-1536-000]

Take notice that on April 15, 2002, Midwest Independent Transmission System Operator, Inc. (Midwest ISO) pursuant to Section 205 of the Federal Power Act and Section 35.13 of the Federal Energy Regulatory Commission's (Commission) regulations, 18 CFR 35.13, submitted for filing Service Agreements for the transmission service requested by Kiel Electric Utility.

A copy of this filing was sent to Kiel Electric Utility.

Comment Date: May 6, 2002.

12. Avista Corporation

[Docket No. ER-02-1539-000]

Take notice that on April 11, 2002, pursuant to section 205 of the Federal Power Act, Avista Corporation tendered for filing with the Federal Energy Regulatory Commission a proposed revision to FERC Rate Schedule No. 290, Avista Corporation's currently effective rate schedule for the 1964 Pacific Northwest Coordination Agreement (PNCA). Avista Corporation has filed a revised tariff sheet to reflect an extension of the term of the PNCA from June 30, 2003 to July 31, 2003. Avista Corporation requests that the Commission accept the change effective June 10, 2002.

A copy of this filing has been served upon all parties to the PNCA.

Comment Date: May 2, 2002.

13. Midwest Independent Transmission System Operator, Inc.

[Docket No. ER02-1540-000]

Take notice that on April 15, 2002, Midwest Independent Transmission System Operator, Inc. (Midwest ISO) pursuant to Section 205 of the Federal Power Act and section 35.13 of the Federal Energy Regulatory Commission's (Commission) regulations, 18 CFR 35.13, submitted for filing Service Agreements for the transmission service requested by PSEG Energy Resources & Trade LLC.

A copy of this filing was sent to PSEG Energy Resources & Trade LLC.

Comment Date: May 6, 2002.

14. Midwest Independent Transmission System Operator, Inc.

[Docket No. ER02-1541-000]

Take notice that on April 15, 2002, Midwest Independent Transmission System Operator, Inc. (Midwest ISO) pursuant to section 205 of the Federal Power Act and section 35.13 of the Federal Energy Regulatory Commission's (Commission) regulations, 18 CFR 35.13, submitted for filing Service Agreements for the transmission service requested by Ohio Valley Electric Corporation.

A copy of this filing was sent to Ohio Valley Electric Corporation.

Comment Date: May 6, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-9894 Filed 4-22-02; 8:45 am]

BILLING CODE 6717-01-P